DEPARTMENT OF AGRICULTURE

Forest Service

Information Collection; Understanding Value Trade-Offs Regarding Fire Hazard Reduction Programs in the Wildland-Urban Interface

AGENCY: Forest Service, USDA.

ACTION: Notice; request for comment.

SUMMARY: In accordance with the Paperwork Reduction Act of 1995, the Forest Service is seeking comments from all interested individuals and organizations on a new research study for developing a better understanding of communities' perceived risk of losses from wildfire in the wildland-urban interface and their willingness to pay for fuels reduction programs to reduce the risk of wildfires.

DATES: Comments must be received in writing on or before August 24, 2004, to be assured of consideration. Comments received after that date will be considered to the extent practicable.

ADDRESSES: Comments concerning this notice should be addressed to Armando González-Cabán, Pacific Southwest Research Station, Forest Service, USDA, 4955 Canyon Crest Drive, Riverside, CA 92507.

Comments also may be submitted via facsimile to (909) 680-1501, or by e-mail to agonzalezcaban@fs.fed.us.

The public may inspect comments received at 4955 Canyon Crest Drive, Riverside, CA 92507, building one reception area during normal business hours. Visitors are encouraged to call ahead to (909) 680-1500 to facilitate entry to the building.

FOR FURTHER INFORMATION CONTACT: Armando González-Cabán, Pacific Southwest Research Station, Forest Service, USDA, (909) 680-1525.

SUPPLEMENTARY INFORMATION: Title: Understanding Value Trade-offs Regarding Fire Hazard Reduction Programs in the Wildland-Urban Interface.

OMB Number: 0596-New.

Expiration date of approval: N/A.

Type of request: New.

Abstract: Forest Service and university researchers will contact recipients of a mail-phone-mail questionnaire to solicit information designed to help forest and fire managers understand value trade-offs regarding fire hazard reduction programs in the wildland-urban interface. Through those contacts researchers will evaluate the responses of Florida residents to different scenarios related to fire hazard reduction programs, determine how effective residents think the programs are, and calculate how much residents would be willing to pay to implement the alternatives presented to them. This will help researchers provide better information to natural resource, forest, and fire managers when they are contemplating the kind and type of fire hazard reduction program to implement to achieve forest land management planning objectives.

To gather the information, a stratified random sample of Florida residents will be contacted through a random digit dialing process to seek participation in the research study. Those who agree to participate will then be informed that a questionnaire will be sent to them and asked to provide an address to which to mail the questionnaire; they will be asked to answer a minimal set of questions to determine their pre-existing knowledge of fuels reduction treatments. They will also be asked to agree to a date and time for an in-depth interview related to the questionnaire mailed to them. Once the in-depth interview is completed no further contact will take place with participants.

The information will be collected by a university research survey center and will be analyzed by a Forest Service researcher and a researcher at a cooperating university who are experienced in applied economic nonmarket valuation research and survey research.

At present the Forest Service, Bureau of Land Management, Bureau of Indian Affairs, National Park Service, Fish and Wildlife Service, and many State agencies with fire protection responsibilities are planning to embark on an ambitious and costly fuels reduction program for fire risk reduction without a clear understanding of the public's opinion on which treatments are most effective or even desirable. Information collected in this research will help natural resource and fire managers to better understand the public's opinions on fuels reduction activities.

Estimate of Annual Burden: The average annual burden estimated per respondent is 30 minutes, based on 1000 respondents at 5 minutes for the initial screener interview and 25 minutes of the in-depth interview.

Type of Respondents: Respondents will be a stratified random sample of heads of households.

Estimated Annual Number of Responses per Respondent: Only one response per respondent will be requested.

Estimated Total Annual Burden on Respondents: The annual burden on respondents that is estimated for this information collection is 30 minutes.

Comment Is Invited

Comment is invited on: (1) Whether this collection of information is necessary for the stated purposes and the proper performance of the function of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 18, 2004.
Barbara C. Weber,
Associate Deputy Chief, Research & Development.

[FR Doc. 04-14389 Filed 6-24-04; 8:45 am]

BILLING CODE 3410-11-P